DEPARTMENT OF JUSTICE

Notice of Lodging of Proposed Consent Decree Under the Clean Air Act

On October 25, 2012, the Department of Justice lodged a proposed Consent Decree with the United States District Court for the Western District of Michigan in the lawsuit entitled United States v. Kellogg USA, Inc., et al., Civil Action No. 1:12-cv-01164.

In a Complaint filed the same day under the Clean Air Act (Act), the United States seeks injunctive relief and civil penalties regarding the Prevention of Significant Deterioration (PSD) and Title V provisions of the Act, and PSD provisions of the Michigan State Implementation Plan, for violations at Kellogg's cereal and snack food manufacturing plants located in Battle Creek, Michigan and Grand Rapids, Michigan. The proposed Consent Decree requires Kellogg to reduce its Volatile Organic Compound permit levels at both facilities, perform a mitigation project (costing more than $435,000) to replace a cooling and dehumidifying system that uses the refrigerant R-22 with a chilled water system that does not use R-22, and pay a $500,000 civil penalty.

The publication of this notice opens a period for public comment on the Consent Decree. Comments should be addressed to the Assistant Attorney General, Environment and Natural Resources Division, and should refer to United States v. Kellogg USA, Inc., et al., D.J. Ref. No. 90-5-2-1-09637. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to:

Consent Decree Library, U.S. DOJ-ENRD, P.O. Box 7611, Washington, DC 20044-7611.

Please enclose a check or money order for $ 7.50 (25 cents per page reproduction cost) payable to the United States Treasury.

Maureen Katz,
Assistant Section Chief, Environmental Enforcement Section, Environment and Natural Resources Division.

[FR Doc. 2012-26833 Filed 10-31-12; 8:45 am]

BILLING CODE 4410-15-P